DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of three individuals and two entities that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On December 22, 2021, OFAC determined that the property and interests in property subject to U.S. jurisdiction of the following persons are blocked under the relevant sanctions authority listed below.

Individuals

1. AL-KHATIB, Ahmad (a.k.a. AL KHATIB, Ahmad; a.k.a. EL KHATIB, Ahmad), Sao Paulo, Brazil; DOB 03 Jul 1969; nationality Egypt; alt. nationality Lebanon; Gender Male; Tax ID No. 234.904.268-51 (Brazil) (individual) [SDGT].

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, MOHAMED AHMED ELSAYED AHMED IBRAHIM, a person whose property and interests in property are blocked pursuant to E.O. 13224, as amended.

2. AL-MAGHRABI, Haytham Ahmad Shukri Ahmad (a.k.a. ELMAGHRABY, Haytham Ahmed S.A.; a.k.a. ELMAGHRABY, Haytham Ahmed Shokry Ahmed; a.k.a. ELMAGHRABY, Haytham Ahmed Shukri Ahmad), Brazil; DOB 07 Sep 1986; POB Egypt; nationality Egypt; Gender Male; Passport A09538178 (Egypt); Tax ID No. 238.624.338-97 (Brazil) (individual) [SDGT].

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-QA'IDA, a person whose property and interests in property are blocked pursuant to E.O. 13224, as amended.

3. AWADD, Mohamed Sherif Mohamed Mohamed (a.k.a. AWAAD, Mohamedsherif Mohamed Mohamed; a.k.a. AWAAD, Muhammad Sharif Muhammad Muhammad), Brazil; DOB 08 Jul 1973; nationality Egypt; alt. nationality Syria; Gender Male; Passport A17058452 (Egypt); Tax ID No. 713.286.841-13 (Brazil) (individual) [SDGT].

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, MOHAMED AHMED ELSAYED AHMED IBRAHIM, a person whose property and interests in property are blocked pursuant to E.O. 13224, as amended.

Entities

1. ENTERPRISE COMERCIO DE MOVEIS E INTERMEDIACAO DE NEGOCIOS EIRELI (Latin: ENTERPRISE COMÉRCIO DE MOVEIS E INTERMEDIAÇÃO DE NEGOCIOS EIRELI) (a.k.a. “CASO E CASA”), Rua Ernesto Nazareth 18, Jardim Paraventi, Guarulhos, Sao Paulo 07120-230, Brazil; Rua Tapaciquara 54, Sala 01, Parque Renato Maia, Guarulhos, Sao Paulo 07114-220, Brazil; Organization Established Date 08 Oct 2019; Tax ID No. 35.116.112/0001-97 (Brazil) [SDGT] (Linked To: AL-KHATIB, Ahmad).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for being owned, controlled, or directed by, or to have acted or purported to act for or on behalf of, directly or indirectly, AHMAD AL-KHATIB, a person whose property and interests in property are blocked pursuant to E.O. 13224, as amended.

2. HOME ELEGANCE COMERCIO DE MOVEIS EIRELI (Latin: HOME ELEGANCE COMÉRCIO DE MOVEIS EIRELI) (a.k.a. DAIANA PORTELLA COELHO COMERCIO DE MOVEIS E COLCHOES; a.k.a. MARROCOS MOVEIS E COLCHOES; a.k.a. MOHAMED AWAAD COMERCIO DE MOVEIS EIRELI; a.k.a. “HOME ELEGANCE”), Rua Dorezopolis, 669, Casa 03, Jardim Santa Clara, Guarulhos, Sao Paulo 07123-120, Brazil; Organization Established Date 11 Oct 2018; Tax ID No. 31.746.200/0001-11 (Brazil) [SDGT] (Linked To: AWADD, Mohamed Sherif Mohamed Mohamed).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for being owned, controlled, or directed by, or to have acted or purported to act for or on behalf of, directly or indirectly, MOHAMED SHERIF MOHAMED MOHAMED AWADD, a person whose property and interests in property are blocked pursuant to E.O. 13224, as amended.

Dated: December 22, 2021.
Andrea M. Gacki,
Director, Office of Foreign Assets Control, U.S. Department of the Treasury.

[FR Doc. 2022-00001 Filed 1-5-22; 8:45 am]

BILLING CODE 4810-AL-P